FEDERAL DEPOSIT INSURANCE CORPORATION

[3064-ZA12]

Notice of Inflation Adjustments for Civil Money Penalties

AGENCY: Federal Deposit Insurance Corporation.

ACTION: Notice of monetary penalties 2020.

SUMMARY: The Federal Deposit Insurance Corporation is providing notice of its maximum civil money penalties as adjusted for inflation.

DATES: The adjusted maximum amounts of civil money penalties in this notice are applicable to penalties assessed after January 15, 2020, for conduct occurring on or after November 2, 2015.

FOR FURTHER INFORMATION CONTACT: Graham N. Rehrig, Senior Attorney, Legal Division, (202) 898-3829, grehrig@fdic.gov; or Amanda E. Ledig, Honors Attorney, Legal Division, (202) 898-6663, aledig@fdic.gov; Federal Deposit Insurance Corporation, 550 17th Street NW, Washington, DC 20429.

SUPPLEMENTARY INFORMATION: This notice announces changes to the maximum amount of each civil money penalty (CMP) within the Federal Deposit Insurance Corporation's (FDIC) jurisdiction to administer to account for inflation under the Federal Civil Penalties Inflation Adjustment Act of 1990 (1990 Adjustment Act),¹ as amended by the Federal Civil Penalties Inflation Adjustment Act Improvements Act of 2015 (2015 Adjustment Act).² Under the 1990 Adjustment Act, as amended, federal agencies must make annual adjustments to the maximum amount of each CMP the agency administers. The Office of Management and Budget (OMB) is required to issue guidance to federal agencies no later than December 15 of each year providing an inflation-adjustment multiplier (i.e., the inflation-adjustment factor agencies must use) applicable to CMPs assessed in the following year.

¹ Public Law 101-410, 104 Stat. 890, codified at 28 U.S.C. 2461 note.

² Public Law 114-74, 701(b), 129 Stat. 599, codified at 28 U.S.C. 2461 note.

Agencies are required to publish their CMPs, adjusted under the multiplier provided by the OMB, by January 15 of the applicable year. Agencies, like the FDIC, that have codified the statutory formula for making the CMP adjustments may make annual inflation adjustments by providing notice in the Federal Register.³

³ See Office of Mgmt. & Budget, Exec. Office of the President, OMB Memorandum No. M-20-05, Implementation of Penalty Inflation Adjustments for 2020, Pursuant to the Federal Civil Penalties Inflation Adjustment Act Improvements Act of 2015 4 (2019), https://www.whitehouse.gov/wp-content/uploads/2019/12/M-20-05.pdf (“OMB Guidance”); see also 12 CFR 308.132(d) (FDIC regulation that guides readers to the Federal Register to see the annual notice of CMP inflation adjustments).

On December 16, 2019, the OMB issued guidance to affected agencies on implementing the required annual adjustment, which guidance included the relevant inflation multiplier.⁴ The FDIC has applied that multiplier to the maximum CMPs allowable in 2019 for FDIC-supervised institutions to calculate the maximum amount of CMPs that may be assessed by the FDIC in 2020.⁵ There were no new statutory CMPs administered by the FDIC during 2019.

⁴ See OMB Guidance at 1 (providing an inflation multiplier of 1.01764).

⁵ Penalties assessed for violations occurring prior to November 2, 2015, will be subject to the maximum amounts set forth in the FDIC's regulations in effect prior to the enactment of the 2015 Adjustment Act.

The following charts provide the inflation-adjusted maximum CMP amounts for use after January 15, 2020—the effective date of the 2020 annual adjustments—under 12 CFR part 308, for conduct occurring on or after November 2, 2015:

Maximum Civil Money Penalty Amounts
U.S. Code citation | Current maximum CMP (through January 14, 2020) | Adjusted maximum CMP ⁶ (beginning January 15, 2020)
12 U.S.C. 1464(v)
Tier One CMP ⁷ | $4,027 | $4,098
Tier Two CMP | 40,269 | 40,979
Tier Three CMP ⁸ | 2,013,399 | 2,048,915
12 U.S.C. 1467(d) | 10,067 | 10,245
12 U.S.C. 1817(a)
Tier One CMP ⁹ | 4,027 | 4,098
Tier Two CMP | 40,269 | 40,979
Tier Three CMP ¹⁰ | 2,013,399 | 2,048,915
12 U.S.C. 1817(c)
Tier One CMP | 3,682 | 3,747
Tier Two CMP | 36,809 | 37,458
Tier Three CMP ¹¹ | 1,840,491 | 1,872,957
12 U.S.C. 1817(j)(16)
Tier One CMP | 10,067 | 10,245
Tier Two CMP | 50,334 | 51,222
Tier Three CMP ¹² | 2,013,399 | 2,048,915
12 U.S.C. 1818(i)(2) ¹³
Tier One CMP | 10,067 | 10,245
Tier Two CMP | 50,334 | 51,222
Tier Three CMP ¹⁴ | 2,013,399 | 2,048,915
12 U.S.C. 1820(e)(4) | 9,203 | 9,365
12 U.S.C. 1820(k)(6) | 331,174 | 337,016
12 U.S.C. 1828(a)(3) | 125 | 127
12 U.S.C. 1828(h) ¹⁵
For assessments <10,000 | 125 | 127
12 U.S.C. 1829b(j) | 21,039 | 21,410
12 U.S.C. 1832(c) | 2,924 | 2,976
12 U.S.C. 1884 | 292 | 297
12 U.S.C. 1972(2)(F)
Tier One CMP | 10,067 | 10,245
Tier Two CMP | 50,334 | 51,222
Tier Three CMP ¹⁶ | 2,013,399 | 2,048,915
12 U.S.C. 3909(d) | 2,505 | 2,549
15 U.S.C. 78u-2
Tier One CMP (individuals) | 9,472 | 9,639
Tier One CMP (others) | 94,713 | 96,384
Tier Two CMP (individuals) | 94,713 | 96,384
Tier Two CMP (others) | 473,566 | 481,920
Tier Three CMP (individuals) | 189,427 | 192,768
Tier Three CMP (others) | 947,130 | 963,837
15 U.S.C. 1639e(k)
First violation | 11,563 | 11,767
Subsequent violations | 23,125 | 23,533
31 U.S.C. 3802 | 11,463 | 11,665
42 U.S.C. 4012a(f) | 2,187 | 2,226

CFR citation | Current presumptive CMP (through January 14, 2020) | Adjusted presumptive CMP (beginning January 15, 2020)
12 CFR 308.132(e)(1)(i)
Institutions with $25 million or more in assets
1 to 15 days late | $552 | $562
16 or more days late | 1,105 | 1,124
Institutions with less than $25 million in assets
1 to 15 days late ¹⁷ | 185 | 188
16 or more days late ¹⁸ | 368 | 374
12 CFR 308.132(e)(1)(ii)
Institutions with $25 million or more in assets
1 to 15 days late | 920 | 936
16 or more days late | 1,840 | 1,872
Institutions with less than $25 million in assets
1 to 15 days late | 1/50,000th of the institution's total assets
16 or more days late | 1/25,000th of the institution's total assets
12 CFR 308.132(e)(2) | 40,269 | 40,979
12 CFR 308.132(e)(3)
Tier One CMP | 4,027 | 4,098
Tier Two CMP | 40,269 | 40,979
Tier Three CMP ¹⁹ | 2,013,399 | 2,048,915

Dated at Washington, DC, on January 7, 2020.
Federal Deposit Insurance Corporation.
Annmarie H. Boyd,
Assistant Executive Secretary.

[FR Doc. 2020-00217 Filed 1-13-20; 8:45 am]

BILLING CODE P